DEPARTMENT OF EDUCATION

Applications, Reports, and Other Records for the 2010-2011 Award Year; Student Assistance General Provisions, Federal Supplemental Educational Opportunity Grant, Federal Work-Study, etc.

AGENCY: Department of Education.

ACTION: Notice of deadline dates for receipt of applications, reports, and other records for the 2010-2011 award year.

Overview Information

(CFDA Nos. 84.007, 84.033, 84.038, 84.063, 84.069, 84.268, 84.375, 84.376, 84.379, and 84.408)

Student Assistance General Provisions, Federal Supplemental Educational Opportunity Grant, Federal Work-Study, Federal Perkins Loan, Federal Pell Grant, Leveraging Educational Assistance Partnership, William D. Ford Federal Direct Loan, Academic Competitiveness Grant, National Science and Mathematics Access to Retain Talent Grant, Teacher Education Assistance for College and Higher Education Grant, and Iraq and Afghanistan Service Grant programs.

SUMMARY: The Secretary announces deadline dates for the receipt of documents and other information from institutions and applicants for the Federal student aid programs authorized under Title IV of the Higher Education Act of 1965, as amended, for the 2010-2011 award year. The Federal student aid programs include the Federal Supplemental Educational Opportunity Grant, Federal Work-Study, Federal Perkins Loan, Federal Pell Grant, Leveraging Educational Assistance Partnership, William D. Ford Federal Direct Loan (Direct Loan), Academic Competitiveness Grant (ACG), National Science and Mathematics Access to Retain Talent Grant (National SMART Grant), Teacher Education Assistance for College and Higher Education (TEACH) Grant, and Iraq and Afghanistan Service Grant programs.

These programs, administered by the U.S. Department of Education (Department), provide financial assistance to students attending eligible postsecondary educational institutions to help them pay their educational costs.

Deadline and Submission Dates: See Tables A, B, and C at the end of this notice.

Table A—Deadline Dates for Application Processing and Receipt of Institutional Student Information Records (ISIRs) or Student Aid Reports (SARs) by Institutions

Table A provides information and deadline dates for application processing, including receipt of the Free Application for Federal Student Aid (FAFSA) and corrections to and signatures for the FAFSA, receipt of ISIRs and SARs, and receipt of verification documents.

The deadline date for the receipt of a FAFSA by the Department's Central Processing System is June 30, 2011, regardless of the method that the applicant uses to submit the FAFSA. The deadline date for the receipt of a signature page for the FAFSA (if required), corrections, changes of addresses or schools, or requests for a duplicate SAR is September 21, 2011. Verification documents must be received by the institution no later than the earlier of 120 days after the student's last date of enrollment or September 28, 2011. As a reminder, verification is not required for unsubsidized Direct Stafford Loans and PLUS Loans, TEACH Grants, and Iraq and Afghanistan Service Grants.

For all Federal student aid programs except Parent PLUS, an ISIR or SAR with an official expected family contribution must be received by the institution no later than the earlier of the student's last date of enrollment for the 2010-2011 award year or September 28, 2011. For purposes of only the Federal Pell Grant, ACG, or National SMART Grant programs, a valid ISIR or a valid SAR for a student not meeting the conditions for a late disbursement must be received no later than the earlier of the student's last date of enrollment or September 28, 2011. A valid ISIR or valid SAR for a student meeting the conditions for a late disbursement under the Federal Pell Grant, ACG, or National SMART Grant programs must be received according to the deadline dates provided in Table A.

In accordance with the regulations in 34 CFR 668.164(g)(4)(i), an institution may not make a late disbursement later than 180 days after the date of the institution's determination that the student withdrew, as provided in 34 CFR 668.22, or for a student who did not withdraw, 180 days after the date the student otherwise became ineligible. Table A provides that an institution must receive a valid ISIR or valid SAR no later than 180 days after its determination of a student's withdrawal or, for a student who did not withdraw, 180 days after the date the student otherwise became ineligible, but not later than September 28, 2011.

Table B—Federal Pell Grant, ACG, and National SMART Grant Programs Submission Dates for Disbursement Information by Institutions and Table C—Iraq and Afghanistan Service Grant Program Submission Dates for Disbursement Information by Institutions

Tables B and C provide the earliest submission and deadline dates for institutions to submit Federal Pell Grant, ACG, National SMART Grant, and Iraq and Afghanistan Service Grant disbursement records to the Department's Common Origination and Disbursement (COD) System and deadline dates for requests for administrative relief if the institution cannot meet the established deadline for specified reasons.

In general, an institution must submit Federal Pell Grant, ACG, National SMART Grant, or Iraq and Afghanistan Service Grant disbursement records no later than 30 days after making a Federal Pell Grant, ACG, National SMART Grant, or Iraq and Afghanistan Service Grant disbursement or becoming aware of the need to adjust a student's previously reported Federal Pell Grant, ACG, National SMART Grant, or Iraq and Afghanistan Service Grant disbursement. In accordance with the regulations in 34 CFR 668.164, we consider that Federal Pell Grant, ACG, National SMART Grant, and Iraq and Afghanistan Service Grant funds are disbursed on the date that the institution: (a) Credits those funds to a student's account in the institution's general ledger or any subledger of the general ledger, or (b) pays those funds to a student directly. We consider that Federal Pell Grant, ACG, National SMART Grant, and Iraq and Afghanistan Service Grant funds are disbursed even if an institution uses its own funds in advance of receiving program funds from the Department. An institution's failure to submit disbursement records within the required 30-day timeframe may result in an audit or program review finding. In addition, the Secretary may initiate an adverse action, such as a fine or other penalty for such failure.

Table C provides further guidance for this first award year of the new Iraq and Afghanistan Service Grant Program. Previously, we provided the operational guidance that an institution must follow in the Electronic Announcements posted on the Information for Financial Aid Professionals Web site, including the postings of November 6, 2009, May 13, 2010, June 24, 2010, July 30, 2010, October 1, 2010, and November 19, 2010. Information about the Iraq and Afghanistan Service Grant Program is also provided in Volume II, Section 1 of the 2010-2011 COD Technical Reference.

Federal Pell Grant, ACG, and the National SMART Grant Programs and the 2011 Crossover Payment Period

The Department of Defense and Full-Year Continuing Appropriations Act, 2011 (P.L. 112-10) rescinded the provision that allowed a student to receive more than one scheduled award in an award year. Under 34 CFR 690.64, an institution would be required to assign a student's 2011 crossover payment period that occurs in the 2010-2011 and 2011-2012 award years to the award year in which the student would receive a greater Federal Pell Grant payment for the payment period. However, since there will be no opportunity for a student to receive a second Scheduled Award during the 2011-2012 award year, Public Law 112-10 included a provision that waives this regulatory requirement for any 2011 crossover payment period. Thus, for a 2011 crossover payment period, an institution may choose the award year to which it assigns a student's crossover payment period for purposes of the Federal Pell Grant Program.

It is important to note that the 2010-2011 award year is the final year for the ACG and National SMART Grant programs. Therefore, an ACG or National SMART Grant award for a 2011 crossover payment period must be assigned to the 2010-2011 award year for an otherwise eligible student to receive payment, and the institution must also assign the student's 2011 crossover payment period for Federal Pell Grant purposes to the 2010-2011 award year.

Other Sources for Detailed Information

We publish a detailed discussion of the Federal student aid application process in the following publications:

• 2010-2011 Funding Education Beyond High School.

• 2010-2011 Counselors and Mentors Handbook.

• 2010-2011 ISIR Guide.

• 2010-2011 Federal Student Aid Handbook.

Additional information on the institutional reporting requirements for the Federal Pell Grant, ACG, and National SMART Grant programs is contained in the 2010-2011 COD Technical Reference.

You may access these publications by selecting the “Publications” link at the Information for Financial Aid Professionals Web site at: http://www.ifap.ed.gov.

Applicable Regulations: The following regulations apply: (1) Student Assistance General Provisions, 34 CFR part 668,

(2) Federal Pell Grant Program, 34 CFR part 690, and

(3) Academic Competitiveness Grant and National Science and Mathematics Access to Retain Talent Grant Programs, 34 CFR part 691.

FOR FURTHER INFORMATION CONTACT: Harold McCullough, U.S. Department of Education, Federal Student Aid, 830 First Street, NE., Union Center Plaza, room 113E1, Washington, DC 20202-5345. Telephone: (202) 377-4030.

If you use a telecommunications device for the deaf (TDD), call the Federal Relay Service (FRS), toll free, at 1-800-877-8339.

Individuals with disabilities can obtain this document in an accessible format (e.g., braille, large print, audiotape, or computer diskette) on request to the program contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov.

Specifically, through the advanced search feature at this site, you can limit your search to documents published by the Department.

Program Authority: 20 U.S.C. 1070a, 1070a-1, 1070b-1070b-4, 1070c-1070c-4, 1070g, 1070h, 1087a-1087j, and 1087aa-1087ii; 42 U.S.C. 2751-2756b.

Dated: June 2, 2011.
William J. Taggart,
Chief Operating Officer, Federal Student Aid.

Table A—Deadline Dates for Application Processing and Receipt of Institutional Student Information Records (ISIRs) or Student Aid Reports (SARs) by Institutions for the 2010-2011 Award Year
Who submits? | What is submitted? | Where is it submitted? | What is the deadline date for receipt?
Student | Free Application for Federal Student Aid (FAFSA)—“FAFSA on the Web” (original or renewal) | Electronically to the Department's Central Processing System (CPS) | June 30, 2011.¹
| Signature Page (if required) | To the address printed on the signature page | September 21, 2011.
Student through an Institution | An electronic FAFSA (original or renewal) | Electronically to the Department's CPS | June 30, 2011.¹
Student | A paper original FAFSA | To the address printed on the FAFSA or envelope provided with the form | June 30, 2011.
Student | Electronic corrections to the FAFSA using “Corrections on the Web” | Electronically to the Department's CPS | September 21, 2011.¹
| Signature Page (if required) | To the address printed on the signature page | September 21, 2011.
Student through an Institution | Electronic corrections to the FAFSA | Electronically to the Department's CPS | September 21, 2011.¹
Student | Paper corrections to the FAFSA using a SAR, including change of mailing and e-mail addresses or institutions | To the address printed on the SAR | September 21, 2011.
Student | Change of mailing and e-mail addresses, change of institutions, or requests for a duplicate SAR | To the Federal Student Aid Information Center by calling 1-800-433-3243 | September 21, 2011.
Student | SAR with an official expected family contribution (EFC) calculated by the Department's CPS (except for Parent PLUS) | To the institution | The earlier of: —the student's last date of enrollment; or —September 28, 2011.²
Student through CPS | ISIR with an official EFC calculated by the Department's CPS (except for Parent PLUS) | To the institution from the Department's CPS | The earlier of: —the student's last date of enrollment; or —September 28, 2011.²
Student | Valid SAR (Pell, ACG, and National SMART Grant Only) | To the institution | Except for a student meeting the conditions for a late disbursement under 34 CFR 668.164(g), the earlier of: the student's last date of enrollment; or September 28, 2011.²
Student through CPS | Valid ISIR (Pell, ACG, and National SMART Grant Only) | To the institution from the Department's CPS | For a student receiving a late disbursement under 34 CFR 668.164(g)(4)(i), the earlier of: —180 days after the date of the institution's determination that the student withdrew or otherwise became ineligible; or —September 28, 2011.²
Student | Verification documents | To the institution | The earlier of: ³ —120 days after the student's last date of enrollment; or —September 28, 2011.²
¹ The deadline for electronic transactions is 11:59 p.m. (Central Time) on the deadline date. Transmissions must be completed and accepted before 12:00 midnight to meet the deadline. If transmissions are started before 12:00 midnight but are not completed until after 12:00 midnight, those transmissions do not meet the deadline. In addition, any transmission submitted on or just prior to the deadline date that is rejected may not be reprocessed because the deadline will have passed by the time the user gets the information notifying him/her of the rejection.
² The date the ISIR/SAR transaction was processed by CPS is considered to be the date the institution received the ISIR or SAR regardless of whether the institution has downloaded the ISIR from its SAIG mailbox or when the student submits the SAR to the institution.
³ Although the Secretary has set this deadline date for the submission of verification documents, if corrections are required, deadline dates for submission of paper or electronic corrections and, for a Federal Pell Grant, ACG, and National SMART Grant, the submission of a valid SAR or valid ISIR to the institution must still be met. An institution may establish an earlier deadline for the submission of verification documents for purposes of the campus-based programs, the FFEL Program, and the Federal Direct Loan Program. Students completing verification and submitting a valid SAR or valid ISIR while no longer enrolled will be paid based on the higher of the two EFCs.

Table B—Federal Pell Grant, ACG, and National SMART Grant Programs Submission Dates for Disbursement Information by Institutions for the 2010-2011 Award Year
Who submits? | What is submitted? | Where is it submitted? | What are the earliest disbursement, submission, and deadline dates for receipt?
Institutions | At least one acceptable disbursement record must be submitted for each Federal Pell Grant recipient, ACG recipient, and National SMART Grant recipient at the institution | To the Common Origination and Disbursement (COD) System using either: —the COD Web site at: www.cod.ed.gov; or —the Student Aid Internet Gateway (SAIG) | Earliest Disbursement Date: January 13, 2010. Earliest Submission Dates: An institution may submit anticipated disbursement information as early as March 27, 2010.
|  |  | An institution may submit actual disbursement information as early as May 26, 2010, but no earlier than: (a) 7 calendar days prior to the disbursement date under the advance payment method; (b) 7 calendar days prior to the disbursement date under the Cash Monitoring #1 payment method; or (c) The date of disbursement under the Reimbursement or Cash Monitoring #2 payment methods.
|  |  | Deadline Submission Dates: Except as provided below, an institution is required to submit disbursement information no later than the earlier of: (a) 30 calendar days after the institution makes a disbursement or becomes aware of the need to make an adjustment to previously reported disbursement data; or (b) September 30, 2011.¹ An institution may submit disbursement information after September 30, 2011, only: (a) for a downward adjustment of a previously reported award or disbursement; (b) based upon a program review or initial audit finding per 34 CFR 690.83 or 691.83; (c) for reporting a late disbursement under 34 CFR 668.164(g); or (d) for reporting disbursements previously blocked as a result of another institution failing to post a downward adjustment.
Institutions | Request for administrative relief based on a natural disaster or other unusual circumstances, or an administrative error made by the Department | Via COD Web site at: www.cod.ed.gov | The earlier of: —a date designated by the Secretary after consultation with the institution; or —February 1, 2012.
Institutions | Request for administrative relief if a student reenters the institution within 180 days after initially withdrawing and the institution is reporting a disbursement for the student within 30 days of the student's reenrollment but after September 30, 2011 ² | Via COD Web site at: www.cod.ed.gov | The earlier of: —30 days after the student reenrolls; or —May 3, 2012.
¹ The deadline for electronic transactions is 11:59 p.m. (Eastern Time) on September 30, 2011. Transmissions must be completed and accepted before 12:00 midnight to meet the deadline. If transmissions are started before 12:00 midnight but are not completed until after 12:00 midnight, those transmissions will not meet the deadline. In addition, any transmission submitted on or just prior to the deadline date that is rejected may not be reprocessed because the deadline will have passed by the time the user gets the information notifying him/her of the rejection.
² Applies only to students enrolled in clock-hour and nonterm credit-hour educational programs.
NOTE: The COD System must accept origination data for a student from an institution before it accepts disbursement information from the institution for that student. Institutions may submit origination and disbursement data for a student in the same transmission. However, if the origination data is rejected, the disbursement data is rejected.

Table C—Iraq and Afghanistan Service Grant Program Submission Dates for Disbursement Information by Institutions for the 2010-2011 Award Year
Who submits? | What is submitted? | Where is it submitted? | What are the earliest disbursement, submission, and deadline dates for receipt?
Institutions | At least one acceptable disbursement record must be submitted for each Iraq and Afghanistan Service Grant recipient at the institution | To the Common Origination and Disbursement (COD) System by: —prior to October 9, 2010, calling the COD School Relations Center at (800) 474-7268; or —on or after October 9, 2010, using the COD Web site at: www.cod.ed.gov | Earliest Disbursement Date: July 1, 2010. An institution may submit disbursement information no earlier than: (a) 7 calendar days prior to the disbursement date under the advance payment method; (b) 7 calendar days prior to the disbursement date under the Cash Monitoring #1 payment method; or (c) The date of disbursement under the Reimbursement or Cash Monitoring #2 payment methods. Deadline Submission Dates: Except as provided below, an institution is required to submit disbursement information no later than the earlier of: (a) 30 calendar days after the institution makes a disbursement or becomes aware of the need to make an adjustment to previously reported disbursement data; or (b) September 30, 2011.¹ An institution may submit disbursement information after September 30, 2011, only: (a) for a downward adjustment of a previously reported award or disbursement; (b) based upon a program review or initial audit finding per 34 CFR 690.83 or 691.83; (c) for reporting a late disbursement under 34 CFR 668.164(g); or (d) for reporting disbursements previously blocked as a result of another institution failing to post a downward adjustment.
Institutions | Request for administrative relief based on a natural disaster or other unusual circumstances, or an administrative error made by the Department | Via COD Web site at: www.cod.ed.gov | The earlier of: —a date designated by the Secretary after consultation with the institution; or —February 1, 2012.
Institutions | Request for administrative relief if a student reenters the institution within 180 days after initially withdrawing and the institution is reporting a disbursement for the student within 30 days of the student's reenrollment but after September 30, 2011.² | Via COD Web site at: www.cod.ed.gov | The earlier of: —30 days after the student reenrolls; or —May 3, 2012.
¹The deadline for electronic transactions is 11:59 p.m. (Eastern Time) on September 30, 2011. Transmissions must be completed and accepted before 12:00 midnight to meet the deadline. If transmissions are started before 12:00 midnight but are not completed until after 12:00 midnight, those transmissions will not meet the deadline. In addition, any transmission submitted on or just prior to the deadline date that is rejected may not be reprocessed because the deadline will have passed by the time the user gets the information notifying him/her of the rejection.
² Applies only to students enrolled in clock-hour and nonterm credit-hour educational programs.
NOTE: The COD System must accept origination data for a student from an institution before it accepts disbursement information from the institution for that student. Institutions may submit origination and disbursement data for a student in the same transmission. However, if the origination data is rejected, the disbursement data is rejected.

[FR Doc. 2011-14016 Filed 6-6-11; 8:45 am]

BILLING CODE 4000-01-P